FEDERAL TRADE COMMISSION

Agency Information Collection Activities; Submission for OMB Review; Comment Request; Extension

AGENCY: Federal Trade Commission (“Commission” or “FTC”).

ACTION: Notice.

SUMMARY: The information collection requirements in the FTC's Fuel Rating Rule will be submitted to the Office of Management and Budget (“OMB”) for review, as required by the Paperwork Reduction Act (“PRA”). The FTC intends to ask OMB to extend for an additional three years the current PRA clearance for these information collection requirements. That clearance otherwise expires on May 31, 2014.

DATES: Comments must be filed by June 19, 2014.

ADDRESSES: Interested parties may submit written comments electronically or in paper form by following the instructions in the Request for Comment part of the SUPPLEMENTARY INFORMATION section below. Write “Fuel Rating Rule PRA Comment, FTC File No. P144200” on your comment and file your comment online at https://ftcpublic.commentworks.com/ftc/fuelratingpra2/ by following the instructions on the web-based form. If you prefer to file your comment on paper, mail or deliver your comment to the following address: Federal Trade Commission, Office of the Secretary, Room H-113, 600 Pennsylvania Avenue NW., Washington, DC 20580, in the manner detailed in the SUPPLEMENTARY INFORMATION section below.

FOR FURTHER INFORMATION CONTACT: Requests for additional information or copies of the proposed information requirements should be addressed to Miriam Lederer, Attorney, Division of Enforcement, Federal Trade Commission, 600 Pennsylvania Avenue NW., M-8102B, Washington, DC 20580, (202) 326-2975.

SUPPLEMENTARY INFORMATION: On March 12, 2014, the FTC sought public comment on the information collection requirements associated with the Fuel Rating Rule, 16 CFR Part 306 (OMB Control Number: 3084-0068). 79 FR 14040 (“March 12, 2014 Notice”). One comment was received.¹ Pursuant to the OMB regulations, 5 CFR Part 1320, that implement the PRA, 44 U.S.C. 3501 et seq., the FTC is providing this second opportunity for public comment while seeking OMB approval to renew the pre-existing clearance for the Rule. All comments should be filed as prescribed herein, and must be received on or before June 19, 2014.

¹ The comment noted favorably that fuel-related rules are “imperative” and that they “need to be reviewed every two years to make sure entities, etc.[,] are in full compliance.” Although the Rule's review is not necessarily subject to such frequency, the Commission reviews this Rule and all current FTC rules (and guides) periodically. These reviews seek information about the costs and benefits of the Commission's rules and guides as well as their regulatory and economic impact. The information obtained assists the Commission in identifying rules (and guides) that warrant modification. Moreover, the Commission may propose amendments to its rules outside of its periodic review of them. Thus, for example, recently the Commission published for public comment proposed ethanol-related amendments to the Fuel Ratings Rule. See 79 FR 18850 (April 4, 2014).

Comments on the information collection requirements subject to review under the PRA should additionally be submitted to OMB. If sent by U.S. mail, they should be addressed to Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5167.

Burden statement: As explained in the March 12, 2014 Notice, FTC staff estimates that Rule compliance entails a total of 33,700 total burden hours (consisting of 13,750 recordkeeping hours and 19,950 disclosure hours), associated labor costs of $364,207, and non-labor/capital costs of $39,899.

Request for Comment: You can file a comment online or on paper. For the Commission to consider your comment, we must receive it on or before June 19, 2014. Write “Fuel Rating Rule PRA Comment, FTC File No. P144200” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is obtained from any person and which is privileged or confidential,” as provided in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).² Your comment will be kept confidential only if the FTC General Counsel grants your request in accordance with the law and the public interest.

² In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/fuelratingpra2/, by following the instructions on the web-based form. If this Notice appears at http://www.regulations.gov/#!home, you also may file a comment through that Web site.

If you file your comment on paper, write “Fuel Rating Rule PRA Comment, FTC File No. P144200” on your comment and on the envelope, and mail or deliver it to the following address: Federal Trade Commission, Office of the Secretary, Room H-113 (Annex J), 600 Pennsylvania Avenue NW., Washington, DC 20580. If possible, submit your paper comment to the Commission by courier or overnight service.

The FTC Act and other laws that the Commission administers permit the collection of public comments to consider and use in this proceeding as appropriate. The Commission will consider all timely and responsive public comments that it receives on or before June 19, 2014. You can find more information, including routine uses permitted by the Privacy Act, in the Commission's privacy policy, at http://www.ftc.gov/ftc/privacy.htm.

David C. Shonka,
Principal Deputy General Counsel.

[FR Doc. 2014-11626 Filed 5-19-14; 8:45 am]

BILLING CODE 6750-01-S